DEPARTMENT OF COMMERCE

National Oceanic and Atmospheric Administration

50 CFR Part 648

RIN 0648-XG543

Magnuson-Stevens Fishery Conservation and Management Act Provisions; Small-Mesh Multispecies Fishery; Public Comment Period for Amendment 22 to the Northeast Multispecies Fishery Management Plan

AGENCY: National Marine Fisheries Service (NMFS), National Oceanic and Atmospheric Administration (NOAA), Commerce.

ACTION: Request for comments.

SUMMARY: The New England Fishery Management Council requests public comment on Amendment 22 to the Northeast Multispecies Fishery Management Plan, including a Draft Environmental Impact Statement. To meet the purpose and need, this amendment proposes alternatives that would initiate a limited access program for the small-mesh multispecies fishery, adjust whiting and red hake possession limits, and modify permit types and characteristics to make them consistent with limited access.

The Council recently solicited comments and held a series of public hearings on the draft amendment. Due to an inconsistency in the information available during the comment period, the Council will solicit comments for an additional 30 days and hold an informational webinar to explain the data inconsistency and review the alternatives in the amendment and Draft Environmental Impact Statement.

DATES: We must receive written comments on or before November 23, 2018. The informational webinar will take place on Wednesday, November 14, 2018 at 3 p.m. at the following web address: https://global.gotomeeting.com/join/843126117, or by telephone at (872) 240-3311, using Access Code 43-126-117.

ADDRESSES: You may submit comments on this document, identified by NOAA-NMFS-2013-0169 by any of the following methods:

Electronic Submission: Submit all electronic public comments directly to the Council at comments@nefmc.org or by fax to (978) 465-3116, with “Comments on Whiting Amendment 22” on the subject line.

Mail: Submit written comments to Thomas A. Nies, Executive Director, New England Fishery Management Council, 50 Water Street, Mill 2, Newburyport, MA 01950. Mark the outside of the envelope, “Comments on Whiting Amendment 22.”

Instructions: You must submit comments by one of the above methods to ensure that the comments are received, documented, and considered by Council. The Council may not consider comments sent by any other method, to any other address or individual, or received after the end of the comment period. All comments received are a part of the public record and will generally be posted for public viewing on the Council's website at www.nefmc.org without change. All personal identifying information (e.g., name, address, etc.) submitted voluntarily by the sender will be publicly accessible. Do not submit confidential business information, or otherwise sensitive or protected information. The Council will accept attachments to electronic comments only in Microsoft Word or Excel, WordPerfect, or Adobe PDF file formats.

The hearing documents are accessible electronically via the internet at https://www.nefmc.org/library/amendment-22 or by request to Thomas A. Nies, Executive Director, New England Fishery Management Council, 50 Water Street, Mill 2, Newburyport, MA 01950, telephone (978) 465-0492.

FOR FURTHER INFORMATION CONTACT: Andrew Applegate, Senior Fisheries Analyst, (978) 465-0492, ext. 114.

SUPPLEMENTARY INFORMATION:

Background

The small-mesh multispecies complex consists of five stocks: Northern silver hake, southern silver hake, and offshore hake, all collectively referred to as whiting; along with northern and southern red hake. The New England Fishery Management Council (Council) manages these stocks as part of the Northeast Multispecies Fishery Management Plan (FMP). Fishermen targeting whiting and hake use small-mesh trawl gear. The Council manages the fishery through multiple small-mesh exemptions to the northeast multispecies (also called groundfish) regulations. The small-mesh multispecies fishery is open access, meaning any vessel may obtain a permit to fish with small-mesh gear to target whiting and hake.

Based on specifications set forth by the Council, NMFS sets annual catch levels for each of the small-mesh multispecies stocks. The fishery routinely harvests a small fraction of the allowable silver hake landings each year, due to high bycatch levels of red hake that reduce the possession limits to incidental levels once a certain percentage of the red hake annual catch limits are reached. Northern whiting and hake stocks are healthy, but southern red hake is overfished and experiencing overfishing. Southern whiting biomass has been declining for several years and is below the target, but is not considered overfished.

Although the fishery does not harvest optimum yield, there are concerns that it could become more difficult to manage if continued open access results in bycatch levels could prematurely close the directed small-mesh multispecies fishery. In response, the Council developed Amendment 22 to the FMP. The amendment considers multiple alternatives for a limited access program, along with various options for possession limits and permit conditions should the Council ultimately choose to limit access in the fishery. The Council's preferred alternative is to maintain open access.

Amendment 22 includes a Draft Environmental Impact Statement (DEIS), which analyzes the impacts of the various management alternatives. In July of 2018, the Council hosted a series of public hearings and solicited comments on the DEIS and amendment. Along with the DEIS, the Council prepared a separate public hearing document to summarize the impacts of alternatives, which included the estimated number of vessels that would qualify under each limited access alternative. After the public hearings, and while discussing potential final action, the Council discovered a discrepancy between the numbers in the public hearing document and the DEIS. Upon further investigation, it concluded that the DEIS analyses were based on the correct information, while the information in the summary section of the DEIS and the public hearing document were based on preliminary analyses that had been conducted in early development of the amendment. The correct results were available to the public and Council when the Council approved the range of alternatives in June 2017 and chose preferred alternatives in December 2017.

Given the discrepancy between the summary information and the DEIS, the Council announced that it will provide the public with an additional 30-day comment period and hold an informational webinar using the most up-to-date information to explain the data discrepancy and afford additional opportunity for comment.

The Council will accept comments until 1 p.m. on November 23, 2018. See the DATES section for the timing of the webinar and how you may participate. The Council's Small-Mesh Fishery Committee and Advisory Panel will review the public comments and make recommendations for action to the Council. The Council will consider these recommendations and take final action on Amendment 22 during its December 2018 meeting.

Authority: 16 U.S.C. 1801 et seq.; 16 U.S.C. 5101 et seq.

Dated: October 17, 2018.
Karen H. Abrams,
Acting Director, Office of Sustainable Fisheries, National Marine Fisheries Service.

[FR Doc. 2018-23123 Filed 10-22-18; 8:45 am]

BILLING CODE 3510-22-P